DEPARTMENT OF COMMERCE

National Oceanic and Atmospheric Administration

[I.D. 080504A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Assistant Regional Administrator for Sustainable Fisheries, Northeast Region, NMFS (Assistant Regional Administrator) has made a preliminary determination that an application to issue EFPs for up to 100 commercial lobster vessels, submitted by the Maine Department of Marine Resources (MEDMR), contains all the information required by the regulations governing exempted experimental fishing under the provisions of the Magnuson-Stevens Fishery Conservation and Management Act (Magnuson-Stevens Act) and, therefore, warrants further consideration. The Assistant Regional Administrator has also made a preliminary determination that the activities authorized under these EFPs would be consistent with the goals and objectives of the American lobster (lobster) fishery under the Atlantic Coastal Fisheries Cooperative Management Act (ACFCMA) and is within the scope of earlier analyses of the impacts. However, further review and consultation may be necessary before a final determination is made to issue the EFPs. Therefore, NMFS announces that the Assistant Regional Administrator proposes to recommend that EFPs be issued that would allow commercial fishing vessels to conduct fishing operations that are otherwise restricted by the regulations governing the fisheries of the Northeastern United States.

Regulations under the Magnuson-Stevens Act require publication of this notification to provide interested parties the opportunity to comment on applications for proposed EFPs.

DATES: Comments on this document must be received on or before August 26, 2004.

ADDRESSES: Comments on this notice may be submitted by e-mail. The mailbox address for providing e-mail comments is DA643@noaa.gov. Include in the subject line of the e-mail comment the following document identifier: “Comments on MEDMR Jonah Crab Experimental Fishery.” Written comments should be sent to Patricia A. Kurkul, Regional Administrator, NMFS, Northeast Regional Office, 1 Blackburn Drive, Gloucester, MA 01930. Mark the outside of the envelope “Comments on MEDMR Jonah Crab Experimental Fishery.” Comments may also be sent via fax to (978) 281-9135. Copies of the Draft Year 3 Supplemented Environmental Assessment (EA) prepared for the 2004/2005 Experimental Jonah Crab Fishery in Exclusive Economic Zone (EEZ) Nearshore Lobster Management Area 1 (NLMA1), as well as the May 2002 EA that it supplements, are available from the Northeast Regional Office at the same address.

FOR FURTHER INFORMATION CONTACT: Brian Hooker, Policy Analyst, phone 978-281-9220.

SUPPLEMENTARY INFORMATION: MEDMR initially submitted an application to conduct a Jonah crab experimental fishery on December 6, 2000. An EA was prepared that resulted in a Finding of No Significant Impact (FONSI), which was signed on June 20, 2002. The initial application anticipated the need for two additional years of the experimental fishery beyond Year 1 (2002/2003) in order to gauge the effectiveness of the gear modifications and collect the data necessary to support a potential permanent exemption to the lobster gear regulations. The EFP application for Year 2 (2003/2004) of the study was received, along with a Supplemented EA, on March 10, 2003, and was issued on August 19, 2003. MEDMR submitted an EFP application and Supplemented EA for Year 3 (2004/2005) of the Jonah Crab Experimental Fishery in NLMA1 on July 26, 2004. Along with the bycatch reduction objective, complementary goals of the EFP have been, and would continue to be to: (1) Contribute to the development of year-round Jonah crab markets; (2) provide additional economic opportunities for lobster and crab fishermen who are currently being held to a maximum trap limit; and (3) provide important biological and demographic data on the Jonah crab resource, thus contributing to baseline information on the Jonah crab life cycle and population structure.

The proposed experimental fishery would take place from September 15, 2004, to September 15, 2005, in the EEZ portion of the NLMA1 described at 50 CFR 697.18(a)(1). To date, over 30 EFP harvesters have reported on 12,484 trap hauls of experimental gear. The proposed EFP would require that the experimental gear employ escape vents that are larger (and in greater numbers) than those in standard lobster traps. The side- and top-entry trap dimensions would be the same as that which was authorized for the original EFP. As all additional EFP gear would be fixed, additional habitat impacts are expected to be negligible.

Total participation levels for the experiment have not exceeded 32 percent of the authorized maximum of 100 vessels for the 19-month period ending in March 2004. Comparing the top-entry, side-entry, and standard lobster trap designs, the MEDMR logbook data thus far suggest that a modified side-entry trap may be the best design for targeting Jonah crabs with negligible lobster bycatch. There were 159 sublegal and 35 legal lobsters caught in 11,944 side-entry trap hauls and 540 top-entry trap hauls. All bycatch was returned to the sea. The catch of Jonah crabs under the EFP has been small when contrasted with Maine's reported 2002 landings in the crab fishery as a whole (approximately 140,449 lb (63,706 kg) of Jonah crabs caught under the EFP for 2002/2003 with 9.5 million lb (4.3 million kg) caught overall—approximately 1.5 percent of the total landings). However, results from both Year 1 and Year 2 indicate that landings in a directed Jonah Crab fishery could attain 300,000 lb (136,077 kg) from 100 participants.

All lobsters caught incidentally to the catch of Jonah crabs, all female crabs and crabs smaller than the MEDMR minimum size of 5-inch (12.7-cm) carapace width, and all other bycatch, would be returned to the sea promptly after data collection. The MEDMR remains committed to providing the same level of observer coverage as in the previous year's experiment (two trips per month). Observer data would continue to complement the information collected by participants through the MEDMR-supplied logbooks, along with detailed fisheries information (e.g., bycatch information, molt condition, etc.).

An August 13, 2002, Biological Opinion on the Jonah crab EFP evaluated impacts on protected resources over the anticipated time frame of the experiment (one year initially and renewal for two additional years). Based on this consultation, a Reasonable and Prudent Alternative (RPA) was implemented to avoid the likelihood that the Jonah crab EFP would jeopardize the continued existence of the North Atlantic right whale. This RPA recommended that participants in the Jonah crab experiment use neutrally buoyant lines on all modified lobster traps during June-October.

As was the case previously, 2004/2005 EFP participants would be required to comply with the RPA and the Atlantic Large Whale Take Reduction Plan (ALWTRP) requirements in effect at the time of the experiment. To date, approximately 40 percent of the EFP participants have received Level I training for whale and sea turtle entanglement. There have been no observed or reported interactions with whales or sea turtles during the operations of this project. The proposed EFP would not represent a change or redistribution of effort, therefore further Endangered Species Act consultation is not necessary.

In 2003, a supplement to the EA for the Jonah crab EFP was prepared to meet revised guidelines regarding cumulative effects and comparative impacts of the preferred alternative (status quo) and other EFP alternatives. The 2004 Supplemented EA determined that the proposed experimental fishery, including cumulative effects, would not significantly affect the quality of the human environment.

The EFP would allow up to 100 vessels to fish 200 of the modified traps above their 800-trap allocation and exempt them from the lobster fishery regulations at 50 CFR part 697 as follows: permit, tagging, and trap limit requirements under § 697.4(a) and (d), and § 697.19(a)(2) and (c); temporary possession of lobster less than the minimum carapace size specified at § 697.20(b)(1) and (2) for data collection purposes; trap tag identification requirements at § 697.21(a)(2); and deployment and gear configuration requirements at § 697.21(b)(2).

Authority: 16 U.S.C. 1801 et seq.

Dated: August 5, 2004.
Alan D. Risenhoover,
Acting Director, Office of Sustainable Fisheries, National Marine Fisheries Service.

[FR Doc. E4-1763 Filed 8-10-04; 8:45 am]

BILLING CODE 3510-08-S